DEPARTMENT OF AGRICULTURE

Forest Service

Notice of Proposed New Fee Sites

AGENCY: Forest Service, Agriculture (USDA).

ACTION: Notice of proposed new fee sites.

SUMMARY: The Umpqua National Forest is proposing to charge new fees at multiple recreation sites listed in SUPPLEMENTARY INFORMATION of this notice. Funds from fees would be used for operation, maintenance, and improvements of these recreation sites. Many sites have recently been reconstructed or amenities are being added to improve services and experiences. An analysis of nearby developed recreation sites with similar amenities shows the proposed fees are reasonable and typical of similar sites in the area.

DATES: If approved, the new fees would be implemented no earlier than six months following the publication of this notice in the Federal Register.

ADDRESSES: Umpqua National Forest, 2900 NW Stewart Parkway, Roseburg, OR 97471.

FOR FURTHER INFORMATION CONTACT: Umpqua Recreation Fees, 541-957-3200 or SM.FS.umpcomments@usda.gov.

SUPPLEMENTARY INFORMATION: The Federal Lands Recreation Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, the Hobo Forest Camp Campground is proposed at $12 per night with a $5 extra vehicle fee. Skillet Creek Group Campground is proposed for $35-$40 per night depending on group size. In addition, this proposal would implement a new fee at one recreation rental: Hemlock Butte Cabin is proposed at $15 a night per person. A $5 day-use fee per vehicle at Cedar Creek Trailhead would be added to improve services and facilities. The full suite of Interagency passes would be honored. A $2 fee is proposed for the showers at Broken Arrow and Diamond Lake campgrounds. A $10 fee is proposed to use the RV dump station at Broken Arrow and Diamond Lake campgrounds.

New fees would provide increased visitor opportunities, as well as increased staffing to address operations and maintenance needs that are intended to enhance customer service. Once public involvement is complete, these new fees will be reviewed by a Recreation Resource Advisory Committee prior to a final decision and implementation.

Advanced reservations for campgrounds and the cabin will be available through www.recreation.gov or by calling 1-877-444-6777. The reservation service charges an $8.00 fee for reservations.

Deborah Hollen,
Acting Associate Deputy Chief, National Forest System.

[FR Doc. 2022-21311 Filed 9-29-22; 8:45 am]

BILLING CODE 3411-15-P